SURFACE TRANSPORTATION BOARD

[Docket No. FD 36093]

Itawamba County Railroad Authority—Acquisition Exemption—Mississippian Railway

Itawamba County Railroad Authority (ICRA), a noncarrier and political subdivision of the State of Mississippi, has filed a verified notice of exemption under 49 CFR 1150.31 to acquire from the Itawamba County Port Commission (ICPC) a 25-mile rail line, known as the Mississippian Railway, between milepost 0.0 in Amory, Miss., and milepost 25.0 in Fulton, Miss. (the Line).

This transaction is related to a concurrently filed verified notice of exemption in Itawamba Mississippian Railroad, LLC—Lease and Operation Exemption—Itawamba County Railroad Authority, Docket No. FD 36094, in which the Itawamba Mississippian Railroad, LLC (IMR) seeks Board approval under 49 CFR 1150.31 to lease from ICRA and operate the Line upon consummation of the transactions.

According to ICRA, an agreement has been reached to transfer ownership of the Line and related assets from ICPC to ICRA, and ICRA has reached an agreement with IMR to lease and operate the Line.

ICRA certifies that the projected annual revenues as a result of this transaction will not result in ICRA's becoming a Class I or Class II rail carrier and will not exceed $5 million. ICRA certifies also that the proposed transaction does not involve any provision or agreement between ICRA and ICPC that would limit future interchange of traffic with a third-party connecting carrier.

The proposed transaction may be consummated on or after February 18, 2017, the effective date of this exemption (30 days after the verified notice was filed). If the verified notice contains false or misleading information, the exemption is void ab initio. Petitions to revoke the exemption under 49 U.S.C. 10502(d) may be filed at any time. The filing of a petition to revoke will not automatically stay the effectiveness of the exemption. Petitions to stay must be filed by February 10, 2017 (at least seven days before the exemption becomes effective).

An original and 10 copies of all pleadings, referring to Docket No. FD 36093, must be filed with the Surface Transportation Board, 395 E Street SW., Washington, DC 20423-0001. In addition, a copy of each pleading must be served on applicant's representative, Rodney M. Love, Mississippi Department of Transportation, 401 North West Street, Suite 9500, Jackson, MS 39201.

According to ICRA, this action is categorically excluded from environmental reporting under 49 CFR 1105.6(c).

Board decisions and notices are available on our Web site at “WWW.STB.GOV.”

Decided: January 30, 2017.
By the Board, Rachel D. Campbell, Director, Office of Proceedings.
Kenyatta Clay,
Clearance Clerk.

[FR Doc. 2017-02292 Filed 2-2-17; 8:45 am]

BILLING CODE 4915-01-P